DEPARTMENT OF ENERGY

Federal Energy Regulatory Commission

[Docket No. ER00-2735-000]

New England Power Pool; Notice of Filings

June 12, 2000.

Take notice that on June 6, 2000, New England Power Pool Participants Committee tendered for filing revisions to Appendix 5-E of Market Rule 5. On June 8, 2000, the New England Power Pool Participants Committee tendered for filing corrections to its June 6, 2000 filing in the above-referenced docket.

The NEPOOL Participants Committee states that copies of these materials were sent to the New England state governors and regulatory commissions and the Participants in the New England Power Pool.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before June 19, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-15250 Filed 6-14-00; 8:45 am]

BILLING CODE 6717-01-U